MILLENNIUM CHALLENGE CORPORATION

[MCC FR 22-15]

Renewal of the MCC Economic Advisory Council and Call for Nominations

AGENCY: Millennium Challenge Corporation.

ACTION: Notice.

SUMMARY: In accordance with the requirements of the Federal Advisory Committee Act, the Millennium Challenge Corporation (MCC) has renewed the charter for the MCC Economic Advisory Council (“EAC”) and is hereby soliciting representative nominations for the 2022-2024 term. The EAC serves MCC in an advisory capacity only and provides insight to sharpen MCC's analytical capacity and ensure continued expertise on relevant issues related to economic development. The EAC provides a platform for engagement with economic development and evaluation experts and contributes to MCC's mission to reduce poverty through sustainable and inclusive economic growth. MCC will use the advice, recommendations, and guidance from the EAC to inform threshold, compact, and concurrent regional compact development, implementation, and results measurement procedures; and assess future policy innovations and methodologies at MCC. The MCC Vice President of the Department of Policy and Evaluation affirms that the EAC is necessary and in the public interest. The EAC is seeking members to comprise a diverse group of recognized thought leaders and experts representing academic institutions, think tanks, donor organizations, and development banks. Additional information about MCC and its portfolio can be found at www.mcc.gov.

DATES: Nominations for EAC members must be received on or before 5 p.m. EST on November 25, 2022. Further information about the nomination process is included below. MCC plans to host the first meeting of the 2022-2024 term of the MCC Advisory Council in early 2023. The EAC will meet at least two times a year in Washington, DC or via video/teleconferencing. Members who are unable to attend in-person meetings may have the option to dial-in via video/teleconferencing.

FOR FURTHER INFORMATION CONTACT: Nominators are asked to send all nomination materials by email to MCCEACouncil@mcc.gov. While email is strongly preferred, nominators may send nomination materials by mail to Millennium Challenge Corporation, Attn: Mesbah Motamed, Designated Federal Officer, MCC Economic Advisory Council, 1099 14th St. NW, Suite 700, Washington, DC 20005. Request for additional information can also be directed to Mesbah Motamed, 202.521.7874, MCCEACouncil@mcc.gov.

SUPPLEMENTARY INFORMATION: The EAC shall consist of not more than 25 individuals who are recognized experts in their field, academics, innovators, and thought leaders, representing academic organizations, independent think tanks, international development agencies, multilateral and regional development financial institutions, and foundations. Efforts will be made to include expertise from countries and regions where MCC operates, within the resource constraints of the MCC to support logistics costs. Qualified individuals may self-nominate or be nominated by any individual or organization. To be considered for the EAC, nominators should submit the following information:

• Name, title, organization, and relevant contact information (including phone, mailing address, and email address) of the individual under consideration;

• A letter containing a brief biography for the nominee and description of why the nominee should be considered for membership; and

• CV including professional and academic credentials.

Please do not send company or organizational brochures or any other information. Materials submitted should total two pages or less, excluding CV. Should more information be needed, MCC staff will contact the nominee, obtain information from the nominee's past affiliations, or obtain information from publicly available sources.

All members of the EAC will be independent of the agency, representing the views and interests of their respective institution or area of expertise, and not as Special Government employees. All members shall serve without compensation. The duties of the EAC are solely advisory and any determinations to be made or actions to be taken on the basis of EAC advice shall be made or taken by appropriate officers of MCC.

Nominees selected for appointment to the EAC will be notified by return email and receive a letter of appointment. A selection team will review the nomination packages and make recommendations regarding membership to the MCC Vice President of the Department of Policy and Evaluation based on criteria including: (1) professional experience and knowledge; (2) academic field and expertise; (3) experience within regions in which MCC works; (4) contribution of diverse regional or technical professional perspectives, and (5) availability and willingness to serve. Based upon the selection team's recommendations, the MCC Vice President of the Department of Policy and Evaluation will select representatives.

In the selection of members for the EAC, MCC will seek to ensure a balanced representation and consider a cross-section of those directly affected, interested, and qualified, as appropriate to the nature and functions of the EAC.

Nominations are open to all individuals without regard to race, color, religion, sex, gender, national origin, age, mental or physical disability, marital status, sexual orientation, or location.

Authority: Federal Advisory Committee Act, 5 U.S.C. app.

Dated: October 4, 2022.
Thomas G. Hohenthaner,
Acting VP/General Counsel and Corporate Secretary.

[FR Doc. 2022-21941 Filed 10-7-22; 8:45 am]

BILLING CODE 9211-03-P